Title 3—

The President

Presidential Determination No. 2010-11 of August 10, 2010—Continuation of U.S. Drug Interdiction Assistance to the Government of Colombia

Correction

In Presidential document 2010-27668 beginning on page 67011 in the issue of Monday, November 1, 2010, make the following correction:

On page 67011, the Presidential Determination number should read “2010-11”

[FR Doc. C1-2010-27668

Filed 11-5-10; 8:45 am]

Billing Code 1505-01-D